DEPARTMENT OF ENERGY

Federal Energy Regulatory Commission

[Docket No. EL02-120-000]

Edison Mission Energy, Inc., Complainant v. PJM Interconnection L.L.C. and PJM Market Monitoring Unit, Respondents; Notice of Complaint

August 15, 2002.

Take notice that on August 14, 2002, Edison Mission Energy, Inc. filed a complaint against PJM Interconnection L.L.C. and the PJM Market Monitoring Unit objecting to the lack of confidentiality safeguards contained in the PJM Market Mitigation Plan that would protect the disclosure of confidential fuel cost information requested by the PJM Market Monitoring Unit.

Any person desiring to be heard or to protest this filing should file with the Federal Energy Regulatory Commission, 888 First Street, NE., Washington, DC 20426, in accordance with Rules 211 and 214 of the Commission's Rules of Practice and Procedure (18 CFR 385.211 and 385.214). Protests will be considered by the Commission in determining the appropriate action to be taken, but will not serve to make protestants parties to the proceeding. Any person wishing to become a party must file a motion to intervene. The answer to the complaint and all comments, interventions or protests must be filed on or before September 3, 2002. This filing is available for review at the Commission in the Public Reference Room or may be viewed on the Commission's website at http://www.ferc.gov using the “FERRIS” link. Enter the docket number excluding the last three digits in the docket number field to access the document. For Assistance, call (202)502-8222 or for TTY, (202) 208-1659. The answer to the complaint, comments, protests and interventions may be filed electronically via the Internet in lieu of paper; see 18 CFR 385.2001(a)(1)(iii) and the instructions on the Commission's web site under the “e-Filing” link. The Commission strongly encourages electronic filings.

Linwood A. Watson, Jr.,
Deputy Secretary.

[FR Doc. 02-21270 Filed 8-20-02; 8:45 am]

BILLING CODE 6717-01-P